ENVIRONMENTAL PROTECTION AGENCY

[FRL-7417-2]

Generic Assessment Endpoints for Ecological Risk Assessments (External Review Draft); Notice of Availability

AGENCY: Environmental Protection Agency.

ACTION: Notice of availability and opportunity for public comment.

SUMMARY: The U.S. Environmental Protection Agency (EPA) is announcing a 60-day public comment period for the draft document titled Generic Assessment Endpoints for Ecological Risk Assessments prepared by the Agency's Risk Assessment Forum (RAF). The document is intended to assist EPA during the process of ecological risk assessment in selecting assessment endpoints, which are valued ecological entities and attributes to be protected. EPA will consider the public comment submissions in revising the document.

DATES: The 60-day public comment period begins December 4, 2002, and ends February 3, 2003. Comments must be provided by February 3, 2003.

ADDRESSES: The draft is available via the Internet on the EPA Risk Assessment Forum's home page at http://www.epa.gov/ncea/raf under the What's New and External Review Drafts menus. Comments may be submitted electronically, by mail, or in person, as described in the instructions under SUPPLEMENTARY INFORMATION.

FOR FURTHER INFORMATION CONTACT: For information on the public comment period, please contact Scott Schwenk, U.S. EPA, Office of Research and Development, National Center for Environmental Assessment (8601D), 1200 Pennsylvania Ave. NW., Washington, DC 20460; telephone: 202-564-6667; fax: 202-565-0062; e-mail: schwenk.scott@epa.gov.

SUPPLEMENTARY INFORMATION:

I. Submission of Comments

Electronic comments are preferred and may be sent by e-mail to: risk.forum@epa.gov. Alternatively, comments may be mailed to the Technical Information Staff (8623D), NCEA-W, U.S. Environmental Protection Agency, 1200 Pennsylvania Avenue, NW., Washington, DC 20460, or delivered to the Technical Information Staff at 808 17th Street, NW., 5th Floor, Washington, DC 20006; telephone: 202-564-3261; facsimile: 202-565-0050. In the case of paper comments, please submit one unbound original with pages numbered consecutively, and three copies of the comments. For attachments, provide an index, number pages consecutively with the comments, and submit an unbound original and three copies.

Please note that all comments received in response to this notice will be placed in a public record. For that reason, commentors should not submit personal information (such as medical data or home address), Confidential Business Information, or information protected by copyright. Due to limited resources, acknowledgments will not be sent.

II. Background

Ecological risk assessment is a process for evaluating the likelihood that adverse ecological effects may occur or are occurring as a result of exposure to one or more stressors. A critical early step in conducting an ecological risk assessment is to select assessment endpoints. Assessment endpoints represent valued ecological entities, and their attributes, upon which risk-management actions are focused. Selecting assessment endpoints is often challenging because of the diversity of species, ecological communities, and ecological functions from which those involved in risk assessment can choose and because of statutory ambiguity regarding what is to be protected. The purpose of the RAF document is to assist EPA risk assessors by providing a set of generic ecological assessment endpoints that can be considered and adapted for use in specific ecological risk assessments, building on existing EPA guidance and experience. The document is not prescriptive, but rather is intended to be a useful starting point that is flexible enough to be applied to many different types of ecological risk assessments. The document is undergoing peer review concurrent with the public comment period described in this notice.

Dated: November 12, 2002.
George W. Alapas,
Director, National Center for Environmental Assessment.

[FR Doc. 02-30763 Filed 12-3-02; 8:45 am]

BILLING CODE 6560-50-P